DEPARTMENT OF DEFENSE

Office of the Secretary

Submission for OMB Review; Comment Request

ACTION: Notice.

The Department of Defense has submitted to OMB for clearance, the following proposal for collection of information under the provisions of the Paperwork Reduction Act (44 U.S.C. chapter 35).

Title, Form, and OMB Number: Police Record Check; DD Form 369; OMB Number 0704-0007.

Type of Request: Extension.

Number of Respondents: 125,000.

Responses Per Respondent: 1.

Annual Responses: 125,000.

Average Burden Per Response: 27 minutes.

Annual Burden Hours: 56,250.

Needs and Uses: This information is collected to provide the Armed Services with background information on an applicant. History of criminal activity, arrests, or confinement is disqualifying for military service. The respondents will be local and state law enforcement agencies. The DD Form 369, “Police Record Check,” is the method of information collection; responses are to reference any records on the applicant. The information will be used to determine suitability of the applicant for military service.

Affected Public: Individuals or households; State, Local or Tribal Government.

Frequency: On occasion.

Respondent's Obligation: Required to obtain or retain benefits.

OMB Desk Officer: Mr. Edward C. Springer.

Written Comments and recommendations on the proposed information collection should be sent to Mr. Springer at the Office of Management and Budget, Desk Officer for DoD, Room 10236, New Executive Office Building, Washington, DC 20503.

DoD Clearance Officer: Mr. Robert Cushing.

Written requests for copies of the information collection should be sent to Mr. Cushing, WHS/DIOR, 1215 Jefferson Davis Highway, Suite 1204, Arlington, VA 22202-4302.

Dated: January 3, 2001.
L.M. Bynum,
Alternate OSD Federal Register Liaison Officer, Department of Defense.

[FR Doc. 01-632 Filed 1-9-01; 8:45 am]

BILLING CODE 5001-10-M